DEPARTMENT OF JUSTICE

Bureau of Alcohol, Tobacco, Firearms and Explosives

[OMB 1140-0043]

Agency Information Collection Activities; Proposed eCollection of eComments Requested; National Tracing Center Trace Request/Solicitud de Rastreo del Centro Nacional de Rastreo—ATF Form 3312.1/3312.1 (S)

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed information collection (IC) OMB 1140-0043

National Tracing Center Trace Request/Solicitud de Rastreo del Centro Nacional de Rastreo -ATF Form 3312.1/3312.1 (S) is being updated to expand some form fields, include additional check boxes, and add a Privacy Act Statement to both forms. This IC is also being published to obtain comments from the public and affected agencies.

DATES: Comments are encouraged and will be accepted for 60 days until August 15, 2022.

FOR FURTHER INFORMATION CONTACT: If you have additional comments regarding the estimated public burden or associated response time, suggestions, or need a copy of the proposed information collection instrument with instructions, or additional information, contact: Neil Troppman, ATF National Tracing Center, by mail at 244 Needy Road, Martinsburg, WV 25405, by email at neil.troppman@atf.gov, or by telephone at 304-260-3643.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Extension with Change of a Currently Approved Collection.

2. The Title of the Form/Collection: National Tracing Center Trace Request/Solicitud de Rastreo del Centro Nacional de Rastreo.

3. The agency form number, if any, and the applicable component of the Department sponsoring the collection:

Form number (if applicable): ATF Form 3312.1/3312.1 (S).

Component: Bureau of Alcohol, Tobacco, Firearms and Explosives, U.S. Department of Justice.

4. Affected public who will be asked or required to respond, as well as a brief abstract:

Primary: State, Local, or Tribal Government.

Other (if applicable): Federal Government.

Abstract: The National Tracing Center Trace Request/Solicitud de Rastreo del Centro Nacional de Rastreo—ATF Form 3312.1/3312.1 (S) is used by Federal, State, local, and certain foreign law enforcement officials to request that Bureau of Alcohol, Tobacco, Firearms, and Explosives (ATF) trace firearms used or suspected to have been used in crimes.

5. An estimate of the total number of respondents and the amount of time estimated for an average respondent to respond: An estimated 1,153 respondents will complete this form on average 21.24 times per year, and it will take each respondent approximately 6 minutes to complete their responses.

6. An estimate of the total public burden (in hours) associated with the collection: The estimated annual public burden associated with this collection is 2,449 hours, which is equal to 1,153 (total respondents) * 21.24 (# of response per respondent) * .1 (6 minutes or the time taken to prepare each response).

7. An Explanation of the Change in Estimates: Due to fewer requests for firearms tracing, the total respondents were reduced by 4,950. Consequently, the total responses and burden hours have also reduced by 319,987 and 31,999 hours respectively since the last renewal in 2019.

If additional information is required contact: Robert J. Houser, Assistant Director, Policy and Planning Staff, Office of the Chief Information Officer, United States Department of Justice, Justice Management Division, Two Constitution Square, 145 N Street NE, Mail Stop 3.E-206, Washington, DC 20530.

Dated: June 9, 2022.
Robert Houser,
Assistant Director, Policy and Planning Staff, U.S. Department of Justice.

[FR Doc. 2022-12859 Filed 6-14-22; 8:45 am]

BILLING CODE 4410-FY-P